Proclamation 8680 of May 20, 2011

National Safe Boating Week, 2011

By the President of the United States of America

A Proclamation

As Americans anticipate the warm weather of the summer months, we look to our Nation’s abundant outdoors and waterways for relaxation and recreation. America’s lakes, rivers, and oceans are enjoyable, but can sometimes pose dangers to watergoers. National Safe Boating Week is an opportunity to highlight the importance of safety precautions and sensible behavior when spending time on the water.

Safe boating is responsible boating. Individuals can prepare for excursions by taking boating safety courses and filing float plans with family members, relatives, or friends. To prevent accidents and drowning while on the water, boaters should remain aware of weather conditions, perform vessel safety checks, and ensure each passenger wears a life jacket and all required safety equipment is on board. Safe boating is also sober boating. Alcohol use is a leading factor in fatal boating accidents, so limiting alcohol use while on or operating a boat can save lives.

Each year for National Safe Boating Week, the United States Coast Guard partners with boating organizations to raise awareness on the importance of taking proper precautions while boating. By embracing responsible boating practices, Americans can avoid preventable injuries and enjoy the majesty of our Nation’s waterways.

In recognition of the importance of safe boating practices, the Congress, by joint resolution approved June 4, 1958 (36 U.S.C. 131), as amended, has authorized and requested the President to proclaim annually the 7-day period prior to Memorial Day weekend as “National Safe Boating Week.”

NOW, THEREFORE, I, BARACK OBAMA, President of the United States of America, do hereby proclaim May 21 through May 27, 2011, as National Safe Boating Week. I encourage all Americans who participate in boating activities to observe this occasion by learning more about safe boating practices and taking advantage of boating education.

IN WITNESS WHEREOF, I have hereunto set my hand this twentieth day of May, in the year of our Lord two thousand eleven, and of the Independence of the United States of America the two hundred and thirty-fifth.

[FR Doc. 2011-13167

Filed 5-24-11; 11:15 am]

Billing code 3195-W1-P